CONSUMER PRODUCT SAFETY COMMISSION

[Docket No. CPSC-2010-0112]

Agency Information Collection Activities; Submission for OMB Review; Comment Request; Contests, Challenges, and Awards

AGENCY: Consumer Product Safety Commission.

ACTION: Notice.

SUMMARY: As required by the Paperwork Reduction Act of 1995, the Consumer Product Safety Commission (CPSC or Commission) announces that the Commission has submitted to the Office of Management and Budget (OMB) a request for extension of approval of a generic collection of information for CPSC-sponsored contests, challenges, and awards. OMB previously approved the collection of information under control number 3041-0151. OMB's most recent extension of approval will expire on November 30, 2020. On August 6, 2020, CPSC published a notice in the Federal Register to announce the agency's intention to seek extension of approval of the collection of information. The Commission received no substantive comments. Therefore, by publication of this notice, the Commission announces that CPSC has submitted to the OMB a request for extension of approval of this collection of information, without change.

DATES: Submit written or electronic comments on the collection of information by November 23, 2020.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2010-0112.

FOR FURTHER INFORMATION CONTACT: Cynthia Gillham, Consumer Product Safety Commission, 4330 East West Highway, Bethesda, MD 20814; (301) 504-7791, or by email to: cgillham@cpsc.gov.

SUPPLEMENTARY INFORMATION: On August 6, 2020, the CPSC published a notice in the Federal Register to announce the agency's intention to seek extension of approval of the collection of information. (85 FR 47750). The Commission received no substantive comments. Accordingly, CPSC seeks to renew the following currently approved collection of information:

Title: Contests, Challenges, and Awards.

OMB Number: 3041-0151.

Type of Review: Renewal of generic collection.

Frequency of Response: On occasion.

Affected Public: Contestants, award nominees, award nominators.

Estimated Number of Respondents: 500 participants annually. In addition, 20 participants may be required to provide additional information upon selection.

Estimated Time per Response: 5 hours/participant. 20 participants may require 2 additional hours each to provide additional information upon selection.

Total Estimated Annual Burden: 2,540 hours (500 participants × 5 hours/participant) + (20 participants × 2 hours/participant).

General Description of Collection: The Commission establishes contests, challenges, and awards to increase the public's knowledge and awareness of safety hazards, such as carbon monoxide poisoning. The Commission also recognizes those individuals, firms, and organizations that work to address issues related to consumer product safety through awards.

Alberta E. Mills,
Secretary, Consumer Product Safety Commission.

[FR Doc. 2020-23488 Filed 10-22-20; 8:45 am]

BILLING CODE 6355-01-P